DEPARTMENT OF THE INTERIOR

National Park Service

[NPS-WASO-ANRSS-24116; PPMWMWROW2, PMP00UP05.YP0000]

Notice of Availability of the Final Environmental Impact Statement To Address the Presence of Wolves at Isle Royale National Park, Michigan

AGENCY: National Park Service, Interior.

ACTION: Notice of availability.

SUMMARY: The National Park Service (NPS) announces the availability of the Final Environmental Impact Statement (EIS) to address the presence of wolves at Isle Royale National Park.

DATES: The NPS will execute a Record of Decision (ROD) no sooner than 30 days from the date of publication by the U.S. Environmental Protection Agency of the notice of filing of the Final EIS in the Federal Register.

ADDRESSES: An electronic copy of the final EIS/plan will be available for public review at http://parkplanning.nps.gov/isrowolves. A limited number of hard copies will be available at Park Headquarters, 800 East Lakeshore Drive, Houghton, Michigan 49931-1896.

FOR FURTHER INFORMATION CONTACT: Superintendent Phyllis Green, Isle Royale National Park, ISRO Wolves, 800 East Lakeshore Drive, Houghton, Michigan 49931-1896, or by telephone at (906) 482-0984.

SUPPLEMENTARY INFORMATION: Pursuant to the National Environmental Policy Act, 43 U.S.C. 4321 et seq., the NPS announces the availability of the Final EIS. The final EIS/plan responds to, and incorporates where appropriate, agency and public comments received on the draft EIS/plan, which was available for public review from December 16, 2016 to March 15, 2017. Two public meetings and two webinars were held from February 14 through February 21, 2017 to gather input on the draft EIS/plan. During the public comment period, 4916 pieces of correspondence were received. NPS responses to agency and public comments are provided in Appendix B of the final EIS/plan available at http://parkplanning.nps.gov/isrowolves.

This final EIS/plan evaluates the impacts of the no-action alternative (Alternative A) and three action alternatives (Alternatives B, C, and D). Alternative B is the preferred alternative and the environmentally preferable alternative.

Alternative A would continue existing management practices and assume no new management actions would be implemented beyond those available at the outset of the wolf planning process. Wolves may arrive or depart independently via an ice bridge. Under Alternative A, wolves would not be introduced by management to Isle Royale National Park.

The action alternatives include the capture and relocation of wolves from the Great Lakes Region to Isle Royale National Park. NPS would target wolves for relocation that are known to feed on moose as one of their prey sources, are in good health with no apparent injuries, and have the appropriate genetic diversity to sustain a viable population on the island. Capture and relocation efforts would take place between late fall and late winter. All of the action alternatives include monitoring which could include radio or GPS collar tracking from ground and air, scat sample collection, visual observations, and other methodology as funding is available.

Under the preferred alternative, between 20 and 30 wolves with a wide genetic diversity would be introduced to the island. Wolves may be supplemented as needed up to the third year after initial introduction. After the third year, should an unforeseen event occur that impacts the wolf population, such as a mass die-off or introduction of disease, and the goals of the alternative are not being met due to this event, wolves may be supplemented for an additional two years. No additional wolves would be brought to the island after five years from date of initial introduction.

Alternative C would involve the initial introduction of between 6 and 15 wolves. The NPS would bring wolves to the island as often as needed in order to maintain a population of wolves on the island for at least the next 20 years. Under this alternative, additional wolves may be brought based on one or more resource indicators that could include genetic health of the wolves, health of the ecosystem, and prey species population trends.

Under Alternative D, the NPS would not take immediate action and would continue current management, allowing natural processes to continue. This alternative is meant to allow the study of island ecosystem changes to continue without an apex predator and action would only be taken should the weight of evidence suggest an apex predator is necessary to ecosystem function. Resource indicators, such as population size and growth rate of moose would be used to determine if and when wolf introduction actions should be taken. If the weight of evidence indicates wolf introduction actions should be taken, NPS would follow procedures outlined within Alternative C.

Authority

The authority for publishing this notice is 40 CFR 1506.6.

Dated: March 8, 2018.
Cameron H. Sholly,
Regional Director, Midwest Region.

[FR Doc. 2018-05408 Filed 3-15-18; 8:45 am]

BILLING CODE P